DEPARTMENT OF TRANSPORTATION

Federal Aviation Administration

Office of Commercial Space Transportation; Notice of Availability of a Record of Decision (ROD) for Streamlining the Processing of Experimental Permit Applications

AGENCY: The Federal Aviation Administration (FAA), Department of Transportation.

ACTION: Notice of availability.

SUMMARY: In accordance with the National Environmental Policy Act of 1969, as amended (NEPA) (42 U.S.C. 4321 et seq.), Council on Environmental Quality NEPA implementing regulations (40 CFR parts 1500-1508), and FAA Order 1050.1E, Change 1, the FAA is announcing the availability of the ROD for streamlining the environmental review of experimental permit applications for the launch and/or reentry of reusable suborbital rockets. The Federal action selected in the ROD is the FAA's issuance of experimental permits for the launch and reentry of reusable suborbital rockets from both FAA-licensed and non-licensed launch sites using the Final Programmatic Environmental Impact Statement for Streamlining the Processing of Experimental Permit Applications (PEIS), to the maximum extent feasible, as the basis for determining the environmental consequences of issuing the permits.

The ROD provides a description of the Proposed Action, which was FAA's Preferred Alternative and the environmentally preferable alternative, and the No Action Alternative. It includes a discussion of environmental impacts associated with the Proposed Action for each resource area, as analyzed in the PEIS. The ROD does not propose site-specific mitigation measures. Rather, launch operators would be expected to implement site-specific mitigation measures that are consistent with those currently employed by the eight launch facilities addressed in the PEIS. Additional site-specific mitigation measures could be developed and presented in the site-specific NEPA documents that would tier from the PEIS.

The PEIS serves as the primary reference and basis for preparation of the ROD. The FAA prepared the PEIS with cooperation from the National Aeronautics and Space Administration (NASA) and the U.S. Air Force. The PEIS documents the analysis of the environmental consequences associated with the above referenced Proposed Action and No Action Alternative.

The FAA has posted the ROD and PEIS on the FAA Web site at: http://www.faa.gov/about/office_org/headquarters_offices/ast/environmental/review/documents_completed/.

Based on the potential environmental impacts identified in the PEIS, applicable regulatory requirements, public and agency comments, and the FAA's responsibilities to support the continued growth and expansion of the U.S. space transportation industry, the FAA has decided to implement the Proposed Action (Preferred Alternative) as presented in the PEIS.

FOR FURTHER INFORMATION CONTACT: Mr. Daniel Czelusniak, Environmental Specialist, FAA/AST-100, 800 Independence Avenue, SW., Washington, DC 20591; telephone (202) 267-5924; or e-mail Daniel.Czelusniak@faa.gov.

Issued in Washington, DC on October 15, 2009.
Michael McElligott,
Manager, Space Systems Development Division.

[FR Doc. E9-26781 Filed 11-5-09; 8:45 am]

BILLING CODE 4910-13-P